ENVIRONMENTAL PROTECTION AGENCY

40 CFR Part 52

[Docket ID #: R10-OAR-2005-OR-0001; FRL-7964-7]

Approval and Promulgation of State Implementation Plans: Oregon; Portland Carbon Monoxide Second 10-Year Maintenance Plan

AGENCY: Environmental Protection Agency (EPA).

ACTION: Proposed rule.

SUMMARY: The EPA proposes to approve the second 10-year maintenance plan for carbon monoxide (CO) for the Portland, Oregon CO Attainment Area. Specifically, in this action EPA proposes to approve the following: Oregon's demonstration that the Portland CO Attainment Area will maintain air quality standards for CO through the year 2017; a revised CO motor vehicle emissions budget for transportation conformity purposes using the MOBILE6.2 emissions model and latest growth and planning assumptions; and revised state implementation plan (SIP) control strategies and contingency measures.

DATES: Comments must be received on or before October 6, 2005.

ADDRESSES: Submit your comments, identified by Docket ID No. R10-OAR-2005-OR-0001, by one of the following methods:

1. Federal eRulemaking Portal:

http://www.regulations.gov. Follow the on-line instructions for submitting comments.

2. Agency Web site: http://www.epa.gov/edocket. EDOCKET, EPA's electronic public docket and comment system, is EPA's preferred method for receiving comments. Follow the on-line instructions for submitting comments.

3. Mail: Environmental Protection Agency, Office of Air, Waste and Toxics, Attn: Connie Robinson, Mail code: AWT-107, 1200 Sixth Avenue, Seattle, WA 98101.

4. Hand Delivery: Environmental Protection Agency Region 10, Attn: Connie Robinson (AWT-107), 1200 Sixth Ave., Seattle, WA 98101, 9th floor. Such deliveries are only accepted during EPA's normal hours of operation, and special arrangements should be made for deliveries of boxed information.

Instructions: Direct your comments to Docket ID No. R10-OAR-2005-OR-0001. EPA's policy is that all comments received will be included in the public docket without change, including any personal information provided, unless the comment includes information claimed to be Confidential Business Information (CBI) or other information whose disclosure is restricted by statute. Do not submit information that you consider to be CBI or otherwise protected through regulations.gov or e-mail. The EPA EDOCKET and the Federal regulations.gov Web site are “anonymous access” systems, which means EPA will not know your identity or contact information unless you provide it in the body of your comment. If you send an e-mail comment directly to EPA without going through EDOCKET or regulations.gov, your e-mail address will be automatically captured and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on line or see the Federal Register of May 31, 2002 (67 FR 38102). For additional instructions on submitting comments, go to Section I. General Information of the SUPPLEMENTARY INFORMATION section of this document.

Docket: All documents in the docket are listed in the EDOCKET index at http://www.epa.gov/edocket. Although listed in the index, some information may not be publicly available, such as CBI or other information whose disclosure is restricted by statute. Certain other material, such as copyrighted material, is not placed on the Internet and will be publicly available only in hard copy form. Publicly available docket materials are available either electronically in EDOCKET or in hard copy at EPA Region 10, Office of Air, Waste, and Toxics, 1200 Sixth Avenue, Seattle, Washington, from 8 a.m. to 4:30 p.m. Monday through Friday, excluding legal holidays. Please contact the individual listed in the FOR FURTHER INFORMATION CONTACT section to schedule your inspection.

FOR FURTHER INFORMATION CONTACT: Connie Robinson, Environmental Protection Agency, Region 10, Office of Air, Waste, and Toxics, AWT-107, 1200 Sixth Ave., Seattle, WA 98101; phone: (206) 553-1086; fax number: (206) 553-0110; e-mail address: robinson.connie@epa.gov.

SUPPLEMENTARY INFORMATION:

Table of Contents

I. General Information

II. What Is the Purpose of This Proposed Rulemaking?

III. What Is the Background for This Action?

IV. What Is the Status of Current CO Levels in the Portland Area and How Do They Compare With the Federal Standards?

V. How Have the Public and Stakeholders Been Involved in This Rulemaking Process?

VI. What Are the Sources and Magnitude of CO Emitted in the Portland Maintenance Area?

VII. How Does the State Demonstrate Maintenance of the CO Standard for the Second 10-Year Period?

VIII. What Control Measures Are Being Proposed for This Second 10-Year Plan?

IX. What Contingency Measures Are Considered, in Case of the Monitored Exceedance or Violation of the Federal Standard?

X. How Does this Action Affect Transportation Conformity?

XI. In Conclusion, How Would This EPA Approval Affect the General Public and Citizens of the Portland Area?

XII. Statutory and Executive Order Reviews

I. General Information

A. What Should I Consider as I Prepare My Comments for EPA?

1. Submitting CBI. Do not submit this information to EPA through RME, regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

i. Identify the rulemaking by docket number and other identifying information (subject heading, Federal Register date and page number).

ii. Follow directions—The Agency may ask you to respond to specific questions or organize comments by referencing a CFR part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. What Is the Purpose of This Proposed Rulemaking?

The purpose of this proposed rulemaking is to solicit comment on the State of Oregon's plan to replace the existing CO maintenance plan for the Portland area in Oregon with a second 10-year maintenance plan to demonstrate continued maintenance of the CO ambient air quality standard through 2017.

The State of Oregon presented a trend analysis of the historical CO monitored data for the Portland area demonstrating that since the Portland area was redesignated to attainment, CO concentrations have fallen steadily. That trend reflects a national pattern of new vehicles producing considerably reduced amounts of CO. Implementation of new national control measures including tighter standards for motor vehicle tailpipe emissions and cleaner fuel will result in significant improvements of air quality for the next 10-year period. EPA agrees with Oregon's analysis and proposes to approve the second 10-year maintenance plan through this rulemaking and notice in the Federal Register.

Federal transportation conformity regulations require that transportation agencies use the latest EPA mobile source emissions model for conformity determinations. EPA officially released a new version of motor vehicle emissions model (MOBILE6) on January 29, 2002. All SIPs that are adopted after that date must use the new model to estimate motor vehicle emissions. The release of MOBILE6 also began a 24-month grace period for conformity. All conformity determinations that are initiated after January 29, 2004 must use a MOBILE6 model. The Oregon Department of Environmental Quality (ODEQ) used MOBILE6.2 to estimate CO emissions for the Portland area for the next 10-year maintenance period through 2017 and conducted a technical analysis with MOBILE6.2 that showed new motor vehicle emissions will not cause or contribute to violations of the air quality standards. EPA agrees with this analysis and proposes to approve revised motor vehicle emissions budgets for conformity determinations.

The State of Oregon took this rulemaking opportunity to change several of the emission control strategies and contingency measures. EPA finds these changes acceptable and proposes to approve them in this rulemaking.

III. What Is the Background for This Action?

In a March 15, 1991 letter to the EPA Region 10 Administrator, the Governor of Oregon recommended the Portland area be designated as nonattainment for CO as required by section 107(d)(1)(A) of the Clean Air Act (the “Act”). The area was designated by EPA as nonattainment for CO and classified as “moderate” with a design value less than or equal to 12.7 parts per million (ppm) under the provisions outlined in sections 186 and 187 of the Act.

The State of Oregon, following the requirements of the Act, prepared and submitted revisions to the Oregon SIP that first included an attainment plan, and then developed a plan to demonstrate maintenance of the standard for a 10-year period beyond the statutory attainment date. EPA published approval of a redesignation request to attainment and the first 10-year maintenance plan on September 2, 1997.

The first 10-year CO maintenance plan included a commitment for periodic review of the plan and submission of the second 10-year maintenance plan to EPA during the last two years of the first 10-year maintenance period. The planning effort included detailed technical analyses such as preparation of base and future year emissions inventories, review of control measures for CO, etc. The results of this planning effort provide the basis of today's proposed approval by EPA.

IV. What Is the Status of Current CO Levels in the Portland Area and How Do They Compare With the Federal Standards?

The national 8-hour CO ambient standard is attained when the daily average 8-hour CO concentration of 9.0 ppm is exceeded no more than one time in a calendar year for two consecutive years. Since the redesignation of the Portland area to attainment for CO on October 2, 1997, the second highest concentration in a calendar year measured by the approved monitoring network was 7.3 ppm, which is less than 9.0 ppm.

V. How Have the Public and Stakeholders Been Involved in This Rulemaking Process?

ODEQ met directly with a variety of stakeholder groups, including representative of the petroleum and ethanol industries, the Oregon Environmental Council and with other state agencies to seek input on the CO maintenance plan. Those state agencies included the Oregon Department of Energy, Agriculture, and Economic and Community Development. Notices were published in the newspaper and public hearings were conducted by ODEQ. ODEQ responded to all comments and the Environmental Quality Commission adopted the revisions to the SIP under OAR 340-200-0040 on December 10, 2004, effective December 25, 2004.

VI. What Are the Sources and Magnitude of CO Emitted in the Portland Maintenance Area?

An emissions inventory was prepared for the Portland area for the base year of 1999. The year 1999 was selected for the inventory because that year reflected the highest ambient CO concentrations in Portland's recent history and therefore represented a conservative base for demonstrating future compliance with the CO NAAQS. The emissions inventory is a list, by source, of the air contaminants directly emitted into the Portland CO Area's air. The data in the emissions inventory is based on calculations and is developed using emission factors, which is a method for converting source activity levels into an estimate of emissions contributions for those sources. Because violations of the CO NAAQS are most like to occur on winter weekdays, the inventory prepared reflects a “design day” with ambient temperatures, traffic volumes and other emission source activity levels of a typical winter weekday in 1999.

In addition to the base year 1999 inventory, emission forecasts were prepared for 2005, 2010 and 2017. These projected inventories were prepared in accordance with EPA guidance. The projections in Table 1 below show that total calculated CO emissions, are not expected to exceed the level of the 1999 base year inventory during the second 10-year maintenance plan period.

Table 1.—1999 Base Year Actual Emissions and *2005, *2010 and *2017 Projected Emissions
[Pounds CO/winter day]
Emissions | 1999 | *2005 | *2010 | *2017
Point Source | 106,590 | 67,401 | 71,085 | 76,241
Area Source | 809,454 | 872,852 | 925,684 | 999,648
Non-Road Mobile | 372,098 | 530,435 | 619,753 | 690,469
On-Road Mobile | 1,525,114 | 1,226,323 | 975,074 | 834,301
Total | 2,813,256 | 2,697,011 | 2,591,596 | 2,600,659
* Without oxy fuel program and without enhanced Inspection and Maintenance (I/M) testing.

The large decrease in point source emissions between 1999 and 2005 is the result of permanent closure of a large aluminum company. The emissions inventory predicts substantial future reductions in CO emissions, largely as a result of a decrease in on-road emissions, which are expected to continue to decline as older motor vehicles are replaced by newer vehicles that meet Federal Tier II emission standards and operate on low sulfur fuels.

VII. How Does the State Demonstrate Maintenance of the CO Standard for the Second 10-Year Period?

The current, EPA-approved first 10-year CO maintenance plan used a rollforward approach to demonstrate maintenance of the CO standard. A review and update of this methodology to a probabilistic rollback approach using more recent monitored air quality and projected emissions data was conducted to demonstrate continued maintenance of the CO standard for a second 10-year period. The probabilistic analysis showed that the CO standard was maintained on all three permanent monitoring sites in 1999 with at least 99% probability. The probabilistic rollback approach demonstrated regional, long-term maintenance by demonstrating that maintenance at the monitoring site with the highest design value (82nd and Division) will be maintained for a second 10-year period with the same level of assurance.

VIII. What Control Measures Are Being Proposed for This Second 10-Year Plan?

The second 10-year plan changes the I/M program requirement for CO from the current Enhanced I/M program to a basic I/M program for CO. Moderate CO Attainment areas were only required to implement a basic I/M program. This is a change to the CO SIP only. The Ozone Maintenance Plan continues to require the Enhanced I/M Program. ODEQ will consider vehicles that meet the enhanced test requirement as also meeting the basic test requirement. If the Ozone Plan is changed to a basic I/M program, it will already be approved for CO.

The Oxygenated Fuel Program remains a control measure in the Portland CO maintenance area until October 31, 2007 when it will be discontinued. It will then become a contingency measure in the second 10-year maintenance plan as required by 175A(d).

Best Available Control Technology (BACT) continues to be required. The plan also continues to offer an industrial Growth Allowance that may be used by new or expanding sources instead of securing emission offsets.

The Transportation Control Measures (TCMs) in this plan replace the TCMs specified in the first Portland Area CO Maintenance Plan. The emission reduction benefits of these TCMs are included in the emission projections on which the Portland Area CO Maintenance Plan is based. The revised TCMS are:

Transit Service Increase: Region transit service revenue hours (weighted by capacity) shall be increased 1.0% per year. The increase shall be assessed on the basis of a 5-year rolling average of actual hours for assessments conducted between 2006 and 2017.

Bicycle Paths: Jurisdictions and government agencies shall program a minimum of 28 miles of bikeways or trails within the Portland metropolitan area between the years 2006 through 2017.

Pedestrian Paths: Jurisdictions and government agencies shall program at least nine miles of pedestrian paths in mixed use centers between the years 2006 through 2017.

Oregon has a TCM substitution policy under which identified TCMs may be substituted in whole, or in part, with other TCMs providing equivalent emission reductions. See 62 FR 4621, September 2, 1997. Appendix D9-2 of the second 10-year maintenance plan identifies the requirements for TCM substitutions.

IX. What Contingency Measures Are Considered, in Case of the Monitored Exceedance or Violation of the Federal Standard?

The maintenance plan is to contain contingency measures to ensure that the State will promptly correct any violation of the standard that occurs during the maintenance period. The contingency measures in the second 10-year maintenance plan for the Portland area are based on risk of violation and actual violation.

If monitored CO levels at any monitoring site register a second high concentration equaling or exceeding 8.1 ppm during a calendar year, ODEQ will form a planning group to evaluate the implementation of additional emission strategies. Additional strategies to be considered include, but are not limited to: Increased parking pricing in the Central City, increased funding for transit, value pricing on major roadways that increase vehicle travel capacity, a trip reduction program, modified regional parking ratios, and accelerated implementation of bicycle and pedestrian networks.

If the Portland area violates the NAAQS for CO, the following contingency measures will automatically be implemented. New Source Review requirements will be changed. The requirement to install Best Available Control Technology will be replaced with Lowest Achievable Emissions Rate technology. The downtown parking lid will be reinstated if the violation occurs in the downtown area formerly subject to the parking lid requirement. If the violation occurs in 2007 or later, the Oxygenated Fuel Program will be reinstated.

X. How Does This Action Affect Transportation Conformity?

Under Section 176(c) of the Act, transportation plans, programs, and projects in nonattainment or maintenance areas that are funded or approved under the Federal Transit Act, must conform to the applicable SIP. In short, a transportation plan is deemed to conform to the applicable SIP if the emissions resulting from implementation of that transportation plan are less than or equal to the motor vehicle emission level established in the SIP for the maintenance year and other analysis years.

In this maintenance plan, procedures for estimating motor vehicle emissions are well documented. The regional motor vehicle emissions calculated by MOBILE6.2 were used in the probabilistic rollback method to compute a threshold level of regional emissions inventory that would provide maintenance of the CO standard with 99% certainty and confidence through the second 10-year maintenance period. The computed attainment threshold of regional motor vehicle emissions can be used to assess the long term attainment prospects. The total on-road motor vehicle CO emissions in the Portland area for 2005, 2010 and 2017 are shown in Table 2.

Table 2.—Portland Maintenance Area CO Motor Vehicle Emissions Budgets
[Pounds per winter day]
Year | 2005 | 2010 | 2017
Budget | 1,238,575 | 1,033,578 | 1,181,341

For the purpose of demonstrating transportation conformity in the timeframe of the area's transportation plan for all years beyond 2017, motor vehicle emissions must be less than or equal to the maintenance plan's motor vehicle emissions budget for 2017.

XI. In Conclusion, How Would This EPA Approval Affect the General Public and Citizens of the Portland Area?

This action proposes to approve measures adopted by ODEQ to ensure maintenance of the Federal air quality standards for CO in the Portland area for a second 10-year period and protect the health and welfare of the area citizens from adverse effects of degraded air quality levels.

XII. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Intergovernmental relations, Reporting and recordkeeping requirements.

Dated: August 23, 2005.
Julie M. Hagensen,
Acting Regional Administrator, EPA Region 10.

[FR Doc. 05-17537 Filed 9-2-05; 8:45 am]

BILLING CODE 6560-50-P